DEPARTMENT OF THE INTERIOR

Bureau of Land Management

[WY-920-1430-FM, WYW 148816]

Notice of Public Interest Hearing

AGENCY: Bureau of Land Management, Interior and Forest Service, Agriculture.

ACTION: Notice of a public interest determination hearing on the proposed Pittsburg & Midway Coal exchange.

SUMMARY: A public hearing as required under regulations at 43 CFR 2203.3, is scheduled to accept oral and written testimony and comments on the public interest factors associated with the proposed Pittsburg and Midway (P&M) Coal Exchange. Pertinent information regarding the proposed exchange is contained in a Final Environmental Impact Statement (FEIS) which documents and discloses the results of an environmental analysis of the proposed P&M Coal Exchange. The FEIS may be viewed and downloaded from the BLM Wyoming Web site http://www.wy.blm.gov.

DATES: The public hearing will be held from 7-9 p.m. m.d.t., September 17, 2003, at Sheridan College, 3059 Coffeen Avenue, Whitney Building, Room W-136, Sheridan, Wyoming 82801.

ADDRESSES: Copies of the FEIS are also available for public inspection at the following BLM Offices: Wyoming State Office, 5353 Yellowstone Road, Cheyenne, WY 82009; Buffalo Field Office, 1425 Fort Street, Buffalo, WY 82834; Rawlins Field Office, 1300 N. Third Street, Rawlins, WY 82301; Casper Field Office, 2987 Prospector Drive, Casper, WY 82604; and the Pinedale Field Office, 432 E. Mill Street, Pinedale, WY 82941.

FOR FURTHER INFORMATION CONTACT: For more information contact Nancy Doelger at 307-261-7627, Mel Schlagel at 307-775-6257, or Tamara Gertsch at 307-775-6115.

SUPPLEMENTARY INFORMATION: After completion of the FEIS and prior to making a public interest determination and issuing a notice of decision, the BLM is required to hold a public hearing to receive public comments on the public interest factors on the proposed exchange. BLM will provide an attendance register at the door to record names of the parties attending the meeting. BLM will also provide a register for those desiring to express their views during the formal hearing procedure. The time allotted to each person wishing to make a statement will be determined by the number of attendees wishing to speak.

The hearing will consist of two distinct phases: (1) an informal phase where the BLM and the USFS will explain the exchange proposal in general terms and will respond to any questions about the exchange proposal, and (2) a formal phase where it will be explained that the hearing is afforded to provide an opportunity to receive comments regarding the public interest factors associated with the proposed exchange. BLM will ask each party who registered at the door to proceed to the microphone and provide their comments. Each party will be asked for their name, business affiliation (if any), and a written copy of their comments if one is available. BLM will not respond to any questions during the formal phase of the hearing. A transcript of both the written and verbal comments will be recorded and will become part of the official transcript for the hearing. The complete transcript of the formal phase of the hearing will be forwarded to the Department of Justice for their review, prior to a Record of Decision being issued for the proposed land exchange. Any comments received will be considered in the final decision issued for this exchange.

Dated: August 12, 2003.
Melvin Schlagel,
Realty Officer.

[FR Doc. 03-20829 Filed 8-14-03; 8:45 am]

BILLING CODE 4310-22-P